DEPARTMENT OF HEALTH AND HUMAN SERVICES

Food and Drug Administration

[Docket No. FDA-2011-N-0528]

Food Safety Modernization Act Domestic and Foreign Facility Reinspections, Recall, and Importer Reinspection User Fee Rates for Fiscal Year 2012; Extension of Comment Period

AGENCY: Food and Drug Administration, HHS.

ACTION: Notice; extension of comment period.

SUMMARY: The Food and Drug Administration (FDA) is extending the comment period to November 30, 2011, for the notice entitled, “Food Safety Modernization Act Domestic and Foreign Facility Reinspections, Recall, and Importer Reinspection User Fee Rates for Fiscal Year 2012” that appeared in the Federal Register of August 1, 2011 (76 FR 45820). In that document, FDA announced the establishment of a docket to obtain comments that would be considered in establishing the fee rates for fiscal year (FY) 2013. In particular, the Agency provided the current FY 2012 fees and requested public comments to the document and intends to consider such comments, as well as experience and additional data gained in implementing these fees in FY 2012, in establishing the fee rates for FY 2013. The Agency is taking this action in response to requests for an extension to allow interested persons additional time to submit comments.

DATES: Submit either electronic or written comments by November 30, 2011.

ADDRESSES: Submit electronic comments to http://www.regulations.gov. Submit written comments to the Division of Dockets Management (HFA-305), Food and Drug Administration, 5630 Fishers Lane, rm. 1061, Rockville, MD 20852.

FOR FURTHER INFORMATION CONTACT: Amy Waltrip, 12420 Parklawn Dr., rm. 2012, Rockville, MD 20857, (301) 796-8811, email: Amy.Waltrip@fda.hhs.gov.

SUPPLEMENTARY INFORMATION:

I. Background

In the Federal Register of August 1, 2011 (76 FR 45820), FDA published a notice with a 90-day comment period to request comments on the establishment of domestic and foreign facility reinspections, non-compliance with recall order, and importer reinspection FY 2012 user fees. The FDA Food Safety Modernization Act provides the Agency with authority under section 743 of the Federal Food, Drug, and Cosmetic Act (21 U.S.C. 379j-31) to assess and collect fees, including those for costs associated with certain domestic and foreign facility reinspections, failure to comply with a recall order, and importer reinspections. The Agency is seeking public comment on the established FY 2012 user fees. In particular, the Agency is seeking public comments intending to consider such comments, as well as experience and additional data gained in implementing these user fees in FY 2012, in establishing the fee rates for FY 2013. The Agency has received a request for an extension of the comment period. The request conveyed concern that the current 90-day comment period does not allow sufficient time to develop a meaningful or thoughtful response to the notice.

FDA has considered the request and is extending the comment period for the notice for 30 days until November 30, 2011. The Agency believes that this extension allows adequate time for interested persons to submit comments.

II. Request for Comments

Interested persons may submit to the Division of Dockets Management (see ADDRESSES) either electronic or written comments on this document. It is only necessary to send one set of comments. It is no longer necessary to send two copies of mailed comments. Identify comments with the docket number found in brackets in the heading of this document. Received comments may be seen in the Division of Dockets Management between 9 a.m. and 4 p.m., Monday through Friday.

Dated: October 24, 2011.
Leslie Kux,
Acting Assistant Commissioner for Policy.

[FR Doc. 2011-27845 Filed 10-26-11; 8:45 am]

BILLING CODE 4160-01-P